DEPARTMENT OF ENERGY

Federal Energy Regulatory Commission

[Project No. 3267-020]

ECOsponsible, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3267-020.

c. Date Filed: March 31, 2020.

d. Applicant: ECOsponsible, LLC.

e. Name of Project: Ballard Mill Hydroelectric Project.

f. Location: On the Salmon River, in the Town of Malone, Franklin County, New York. The project does not occupy any federal land.

g. Filed Pursuant to: Federal Power Act 16 U.S.C. 791 (a)-825 (r).

h. Applicant Contact: Dennis Ryan, Manager, ECOsponsible, LLC, PO Box 114, West Falls, NY 14170; (716) 222-2188; email—denryan@gmail.com.

i. FERC Contact: John Stokely at (202) 502-8534; or email at john.stokely@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 30, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The Ballard Mill Project consists of the following existing facilities: (1) A 110-foot-long concrete capped timber crib overflow dam; (2) a 105-foot-long earth embankment dam with 2-foot-high flashboards; (3) a 4.75-foot-wide sluice gate located at the west abutment of the existing timber crib dam; (4) two 8-foot-wide flood sluice gates located between the existing timber crib dam and powerhouse; (5) an impoundment with a surface area of 10 acres and a volume of 50 acre-feet at the normal maximum pool elevation of 698 feet National Geodetic Vertical Datum of 1929; (6) a 20-foot-wide, 28-foot-long concrete masonry powerhouse with a single 255-kilowatt horizontal shaft Kaplan turbine-generator unit; (7) a 17.5-foot-wide, 16.67-foot-high concrete intake leading to a trashrack with 1-inch clear spacing; (8) a 10- to 20-foot-wide, 250-foot-long excavated earth and rock channel tailrace; (9) a 150-foot-long underground cable connecting to a transformer pole; (10) a 0.48/13.2-kilovolt (kV) transformer; (11) a 13.2-kV, 170-foot-long overhead transmission line; and (12) appurtenant facilities.

The Ballard Mill Project is operated in a run-of-river mode with an average annual generation of 1,620 megawatt-hours.

o. A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) | May 2020.
Request Additional Information | May 2020.
Issue Acceptance Letter August | 2020.
Issue Scoping Document 1 for comments | September 2020.
Request Additional Information (if necessary) | November 2020.
Issue Scoping Document 2 | December 2020.
Issue Notice of Ready for Environmental Analysis | December 2020.
Commission issues EA | June 2021.
Comments on EA | July 2021.

Final amendments to the application must be filed with the Commission no later than 30 days from the issuance date of the notice of ready for environmental analysis.

Dated: April 8, 2020.
Kimberly D. Bose,
Secretary.

[FR Doc. 2020-07810 Filed 4-13-20; 8:45 am]

BILLING CODE 6717-01-P